DEPARTMENT OF ENERGY

Federal Energy Regulatory Commission

[Project No. 2144-038—Washington]

City of Seattle, WA; Notice of Designation of Commission Staff as Non-Decisional

November 2, 2009.

Commission staff member James Hastreiter (Office of Energy Projects, 503-552-2760; james.hastreiter@ferc.gov) is hereby designated as “non-decisional” staff and assigned to participate in settlement discussions and provide guidance on the Commission's policies and authorities for the Boundary Hydroelectric Project in the above-referenced proceeding.

As “non-decisional” staff, Mr. Hastreiter will not participate in an advisory capacity in the Commission's review of any offer of settlement or settlement agreement, or deliberations concerning the disposition of the relicense application in the above-referenced proceeding.

Different Commission “advisory staff” will be assigned to review any offer of settlement or settlement agreement, and to process the relicense application, including providing advice to the Commission with respect to the agreement and the application. Non-decisional staff and advisory staff are prohibited from communicating with one another concerning the merits of the settlement and the relicense application.

Kimberly D. Bose,
Secretary.

[FR Doc. E9-26886 Filed 11-6-09; 8:45 am]

BILLING CODE 6717-01-P